NUCLEAR REGULATORY COMMISSION

[Docket No. 72-2]

Virginia Electric and Power Company Issuance of Environmental Assessment and Finding of No Significant Impact Regarding the Proposed Amendment to Revise Technical Specifications of License No. SNM-2501

The U.S. Nuclear Regulatory Commission (NRC or Commission) is considering issuance of an amendment, pursuant to 10 CFR 72.56, to Special Nuclear Material License No. 2501 (SNM-2501) held by Virginia Electric and Power Company (Virginia Power) for the Surry independent spent fuel storage installation (ISFSI). The requested amendment would revise the Technical Specifications (TS) of SNM-2501 to specifically permit the use of the TN-32 storage cask to store spent fuel with a higher initial enrichment and burnup than currently specified in the TS for the Surry ISFSI.

Environmental Assessment (EA)

Identification of Proposed Action: By letter dated November 15, 1999, as supplemented, Virginia Power requested an amendment to revise the TS of SNM-2501 for the Surry ISFSI. The changes would specifically permit the use of the TN-32 storage cask to store spent fuel with a higher initial enrichment and burnup than currently specified in the TS. Currently the TS for the Surry ISFSI limit the fuel to be stored in the TN-32 to the following: initial enrichment of ≤ 3.85 % (wt U-235), assembly average burnup of ≤ 40,000 MWD/MTU, and heat generation of ≤ 0.847 Kw/assembly. This amendment requests the limits be amended to match those approved for the TN-32 storage cask per the Certificate of Compliance (CoC) and Safety Evaluation Report (SER) issued in March 2000. Those approved limits are as follows: initial enrichment of ≤ 4.05% (wt U-235), assembly average burnup ≤ 45,000 MWD/MTU, and heat generation of ≤ 1.02 Kw/assembly.

Need for the Proposed Action: The proposed action is necessary to allow continued storage of spent fuel in dry casks. Without this amendment Surry will be unable to load spent fuel in TN-32 casks because their remaining fuel has the higher enrichment and burnup. If unable to store spent fuel in TN-32's, Surry will not be able to retain full core offload capability. Surry would eventually have to find an alternate means to store fuel, or shut down.

Environmental Impacts of the Proposed Action: The NRC has completed its evaluation of the proposed action and concludes that granting the request for amendment to allow the storage of spent fuel assemblies with burnup and initial enrichment of up to 45,000 MWD/MTU and 4.05% (wt U-235), respectively, in TN-32 casks used at the Surry ISFSI, will not increase the probability or consequence of accidents beyond that bounded by previous analysis. In March 2000, the NRC issued a CoC and SER for the TN-32 allowing storage of spent fuel in the TN-32 under a general license, with the higher enrichment and burnup, resulting in no significant environmental impact. No changes are being made in the types of any effluents that may be released offsite. With regard to radiological impacts, the addition of higher burnup and initial enrichment spent fuel assemblies was calculated to yield an average surface dose rate of 224 mrem/hour at the TN-32 cask side surface. A reevaluation of occupational doses based on actual operating experience from loading 39 casks, indicates that the overall exposure to workers during cask loading, transport, and emplacement will decrease from the original estimate of 21.2 person-rem to 11.9 person-rem. The dose to the closest real receptor due to Surry ISFSI operations was calculated to be 6×10−¹ mrem/year. This dose is several orders-of-magnitude below natural background radiation levels and is an insignificant amount when compared to the 10 CFR Part 72.104 whole-body dose limit of 25 mrem/year. The annual whole-body dose to the closest real receptor from all Surry operations is 16 mrem, which is below the 10 CFR Part 72.104 limit. Based on the occupational and public dose analysis results, there are no significant radiological environmental impacts associated with the proposed action.

The amendment only affects the requirements associated with the content of the casks and does not affect non-radiological plant effluents or any other aspects of the environment. Therefore, there are no significant non-radiological environmental impacts associated with the proposed action.

Accordingly, the Commission concludes that there are no significant environmental impacts associated with the proposed action.

Alternative to the Proposed Action: The alternative to the proposed action would be to deny the request for amendment (i.e., the “no-action” alternative). Denial of the proposed action would result in Surry storing spent fuel in the spent fuel pool. Without dry cask storage, Surry would lose the capability to maintain full core offload and eventually would have to shut down due to lack of storage space.

Increased storage in the spent fuel pool could potentially lead to greater occupational exposure than dry cask storage due to the proximity of workers to the fuel. The environmental impacts of the alternative action could be greater than the proposed action.

Given that the alternative action of denying the approval for amendment has no lesser environmental impacts associated with it, and considering that the proposed action would result in storage of fuel in the TN-32 casks at Surry ISFSI as already approved for storage under a general license, the Commission concludes that the preferred alternative is to grant this amendment.

Agencies and Persons Consulted: On August 18, 2000, Mr. Les Foldese of the Virginia Department of Health, Radiological Health Programs, was contacted regarding the proposed action and had no concerns.

Finding of No Significant Impact

The environmental impacts of the proposed action have been reviewed in accordance with the requirements set forth in 10 CFR Part 51. Based upon the foregoing Environmental Assessment, the Commission finds that the proposed action of granting an amendment to permit the use of the TN-32 dry storage cask to store spent fuel with a higher initial enrichment (≤ 4.05% wt U-235) and burnup (≤ 45,000 MWD/MTU) at the Surry ISFSI will not significantly impact the quality of the human environment. Accordingly, the Commission has determined not to prepare an environmental impact statement for the proposed exemption.

For further details with respect to this action, see the amendment application dated November 15, 1999, as supplemented. In accordance with 10 CFR 2.790 of the NRC's “Rules of Practice,” a copy of the application, as supplemented, will be available electronically for public inspection in the NRC Public Document Room, 2120 L Street NW. (Lower Level), Washington, DC, or from the Publically Available Records (PARS) components of the NRC's document system (ADAMS). ADAMS is accessible from the NRC Web site at http://www.nrc.gov/NRC/ADAMS/index.html (the Public Electronic Reading Room).

Dated at Rockville, Maryland, this 8th day of September 2000.
For the Nuclear Regulatory Commission.
E. William Brach,
Director, Spent Fuel Project Office, Office of Nuclear Material Safety and Safeguards.

[FR Doc. 00-24363 Filed 9-21-00; 8:45 am]

BILLING CODE 7590-01-P